DEPARTMENT OF HEALTH AND HUMAN SERVICES

Food and Drug Administration

[Docket No. FDA-2008-N-0656]

Secure Supply Chain Pilot Program; Correction

AGENCY: Food and Drug Administration, HHS.

ACTION: Notice; correction.

SUMMARY: The Food and Drug Administration (FDA) is correcting a document that appeared in the Federal Register of August 20, 2013 (78 FR 51192). The document announced the start of the Secure Supply Chain Pilot Program (SSCPP). The document was published with an incorrect email address for the SSCPP mailbox. This document corrects that error.

FOR FURTHER INFORMATION CONTACT: Katharine Neckers, Center for Drug Evaluation and Research, Food and Drug Administration, 10903 New Hampshire Ave., Building 51, Rm. 4259, 301-796-3339, email: Katharine.Neckers@fda.hhs.gov.

SUPPLEMENTARY INFORMATION: In FR Doc. 2013-20215, appearing on page 51192 in the Federal Register of August 20, 2013, the following correction is made:

On page 51194, in the second column, under “IV. Process for Applying to Participate in the Pilot,” in the third full paragraph, the sentence that reads “For communications other than the submission of the SSCPP application (Form FDA 3676), please contact the CDER SSCPP mailbox at SSCPPMailbox@fda.hhs.gov” is corrected to read “For communications other than the submission of the SSCPP application (Form FDA 3676), please contact the CDER SSCPP mailbox at CDERSSCPP@fda.hhs.gov.”

Dated: September 24, 2013.
Leslie Kux,
Assistant Commissioner for Policy.

[FR Doc. 2013-23563 Filed 9-26-13; 8:45 am]

BILLING CODE 4160-01-P